DEPARTMENT OF HOMELAND SECURITY

[Docket No.: DHS-2025-2017]

Notice of Availability of a Draft Programmatic Environmental Assessment for Actions Related to the Migrant Protection Protocols Program

AGENCY: Department of Homeland Security.

ACTION: Notice of availability; request for comments.

SUMMARY: The Department of Homeland Security (DHS) announces the availability of the Draft Programmatic Environmental Assessment (PEA) and Draft Finding of No Significant Impact (FONSI) for the proposed resumption of the Migrant Protection Protocols (MPP) Program along the southern border of the United States (U.S.) as directed by the Executive Order entitled, Securing Our Borders (the Proposed Action). The Draft PEA programmatically evaluates reasonably foreseeable environmental impacts that may occur because of the Proposed Action and identifies standard best management practices (BMPs) by which DHS can reduce such impacts.

DATES: Comments are encouraged and will be accepted until May 27, 2025.

ADDRESSES: The Draft PEA and Draft FONSI are available on DHS's website at: https://www.dhs.gov/sep/ephp/nepa. Comments may be submitted by either of the following methods:

• Regulations.gov web portal: Navigate to https://www.regulations.gov and search for Docket No. DHS-2025-0017 to submit public comments. Follow the online instructions for submitting comments. All public comments received are subject to the Freedom of Information Act and will be posted in their entirety at this site and available for public viewing. Do not include any information you would not like to be made publicly available.

• By email: Jennifer Hass, Acting Executive Director, Energy and Environment Division, at EED-EP@hq.dhs.gov, Subject Header: `Docket No. DHS 2025-2017 MPP PEA'.

All comments received may be made publicly available without change, including any personal information provided.

FOR FURTHER INFORMATION CONTACT: Jennifer Hass, Acting Executive Director, Energy and Environment Division, Department of Homeland Security at (202) 834-4346 or EED-EP@hq.dhs.gov.

SUPPLEMENTARY INFORMATION:

Background: Under the MPP program (also known as the “Remain in Mexico” program) certain foreign individuals entering or seeking admission into the United States from Mexico, who enter illegally or without proper documentation, may be returned to Mexico to wait outside the U.S. for the duration of their removal proceedings. DHS, as the federal Department responsible for managing border control and immigration, has the authority to administer programs that further these missions and protect national security.

The MPP program was first established on December 20, 2018, under authority granted to DHS pursuant to Section 235(b)(2)(C) of the Immigration and Nationality Act (INA) and was subsequently terminated in 2022. On January 20, 2025, President Trump issued E.O. 14165, Securing Our Borders, which directed the DHS Secretary, along with the Secretary of State and Attorney General, to resume the MPP program “in all sectors along the southern border of the United States.”

Under the initial MPP program, aliens encountered at the southern border of the U.S. and determined to be eligible for the MPP program were processed at the border POE, issued a Notice to Appear, placed into removal proceedings, and transferred back to Mexico. Aliens were allowed to return to the U.S. at a designated POE in order to attend their immigration court hearings. Under this program, the U.S. and the Government of Mexico developed a joint agreement, where the Government of Mexico agreed to provide appropriate humanitarian protections to those aliens returned to Mexico under the MPP program.

Proposed Action: DHS proposes to resume the MPP program, in accordance with E.O. 14165, as DHS enforces immigration laws and responds to changing security and humanitarian conditions along the southern border. The Proposed Action is needed to provide DHS the ability to return certain aliens to Mexico pending the completion of removal proceedings pursuant to Section 240 of the INA (8 U.S.C. 1229a). The PEA evaluates the full lifecycle of the MPP program including its resumption and future cessation, whether temporary or permanent.

The increasing influx of aliens into the U.S. has overwhelmed the U.S. immigration system, making it easier for illegal aliens to enter and remain in the U.S. This influx has also resulted in other consequences, including an increase in human smugglers, traffickers, and illegal drugs and other contraband that have been able to cross the border and remain in the U.S., endangering national security. The Proposed Action would provide a safe and orderly immigration process, decrease illegal activities and illicit contraband, and reduce threats to national security and public safety.

DHS prepared the subject Draft PEA to streamline the review process and eliminate duplicative, lengthy reviews for repetitive actions that would occur under the MPP program and that could be broadly analyzed given their similar scopes. Additionally, the PEA would provide programmatic-level recommendations for BMPs to avoid or minimize impacts on the environment, to the greatest extent practicable. However, individual project implementation actions may still require additional review under other environmental and historic preservation statutes, regulations, and EOs. MPP program activities that could occur during the operational phases of the program, such as new construction of temporary facilities to support immigration proceedings, would still require review on a project-specific basis.

The Draft PEA evaluates the potential environmental, cultural, socioeconomic, and physical impacts associated with DHS's Proposed Action.

DHS would not undertake any operational activities within the sovereign territory of Mexico under this Proposed Action. Therefore, this action is not subject to requirements under E.O. 12114, Environmental Effects Abroad of Major Federal Actions.

Alternatives: In addition to the Proposed Action Alternative, which would implement the Proposed Action, DHS considered a No Action Alternative. Under the No Action Alternative, DHS would analyze the environmental effects associated with not resuming the MPP program as directed by E.O. 14165. It should be noted that DHS would still employ other methods to enforce immigration laws, which may include applicable emergency authorizations, in support of its national security mission.

Draft Finding of No Significant Impact: The evaluation performed within this Draft PEA concludes that no significant adverse impact to the environment or human quality of life is anticipated as a result of implementing the Proposed Action, provided that routine BMPs specified in the Draft PEA are implemented.

Request for Public Review: Federal agencies; Tribal, state, and local governments; the public; and other interested parties are requested to comment on the Draft PEA, which will be available for a 30-day public comment period from May 27, 2025. Comments may be provided via electronic mail to the contact identified above, with subject header: “MPP PEA” or via the Regulations.gov web portal. A mailing address to submit hardcopy comments can be provided upon request.

Availability of the Draft PEA: The Draft PEA and Draft FONSI are available on DHS's website at: https://www.dhs.gov/sep/ephp/nepa.

(Authority: National Environmental Policy Act (NEPA) of 1969 (42 U.S.C. 4321 et seq.), as amended, DHS Management Directive 023-01, rev. 01 (Implementation of NEPA), and DHS Instruction Manual 023-01-001-01, rev. 01 (Implementation of the NEPA).)

Jennifer Hass,
Acting Executive Director, Energy and Environment Division, Office of the Chief Readiness Support Officer, Department of Homeland Security.

[FR Doc. 2025-06816 Filed 4-24-25; 8:45 am]

BILLING CODE 9112-FF-P